DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Processing (Updating) (Proposed Amendment to Requests for Continuing Examination and Forms for Reconstruction of Unlocatable Files, Request for Oral Appeal Hearing, and Request for Deferral of Examination).

Form Numbers: PTO/SB/08A/08B/21/22/23/24/25/26/27/30/31/35/36/42/43/61/ 61PCT/62/63/64/64PCT/67/68/91/92/96/97 and the proposed addition of PTO/SB/32/37 and PTO-2053-A/B, PTO-2054-A/B, and PTO-2055-A/B.

Agency Approval Number: 0651-0031.

Type of Request: Revision of a currently approved collection.

Burden: 1,021,941 hours.

Number of Respondents: 2,247,389 responses.

Avg. Hours Per Response: The USPTO estimates that it will take the public approximately 12 minutes to gather information, prepare, and submit a Request for Continued Examination, a Request for an Oral Hearing before the Board of Patent Appeals and Interferences, or a Request for Deferral of Examination. The new forms associated with the reconstruction of unlocatable files will not affect the burden for this collection.

Needs and Uses: This collection of information supports a proposed rulemaking entitled “Elimination of Continued Prosecution Application Practice as to Utility and Plant Patent Applications,” which will eliminate the Continued Prosecution Application (CPA) in favor of the Request for Continued Examination (RCE) practice for utility and plant applications. The USPTO is retaining the current CPA practice for design applications only. Additionally, the USPTO is adding five new forms to this collection pertaining to the reconstruction of unlocatable patent and application files, the request for an oral hearing before the Board of Patent Appeals and Interferences, and the request for deferral of examination of a non-reissue utility or plant application. The public uses the forms in this collection to request continued examination of a previously submitted application, to assist the USPTO in reconstructing a current copy of a missing patent or application file, to file a written request for an oral hearing “in a separate paper” before the Board of Patent Appeals and Interferences, and to request deferred examination of a patent application for up to three years from the earliest filing date for which a benefit is claimed. The USPTO uses the information collected from the public to process and initiate continued examination of a previously submitted application, to notify an applicant or patent owner that an application or patent file is unlocatable and to request a copy of the applicant's or patentee's record of the application or patent file, and to process and consider requests for oral hearings before the Board of Patent Appeals and Interferences and requests for deferral of examination.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by calling or writing Susan Brown, Records Officer, Data Administration Division, Office of Data Management, United States Patent and Trademark Office, Crystal Park 3, 3rd Floor, Suite 310, Washington, D.C., 20231, by phone at (703) 308-7400, or via the Internet at susan.brown@uspto.gov.

Written comments and recommendations for the proposed information collection should be sent within 30 days of publication to David Rostker, OMB Desk Officer, Room 10236, New Executive Office Building, 725 17th Street, N.W., Washington, D.C. 20503.

Dated: June , 2001.
Susan K. Brown,
Records Officer, Data Administration Division, Office of Data Management.

[FR Doc. 01-15095 Filed 6-14-01; 8:45 am]

BILLING CODE 3510-16-P